ENVIRONMENTAL PROTECTION AGENCY

40 CFR Part 271

[FRL-6543-3]

Louisiana: Final Authorization of State Hazardous Waste Management Program Revisions

AGENCY: Environmental Protection Agency (EPA).

ACTION: Immediate final rule.

SUMMARY: The State of Louisiana has applied for Final authorization to revise its Hazardous Waste Program under the Resource Conservation and Recovery Act (RCRA). The EPA is now making an immediate final decision, subject to receipt of written comments that oppose this action, that Louisiana's Hazardous Waste Program revision satisfies all the requirements necessary to qualify for final authorization.

DATES: This immediate final rule is effective on April 28, 2000 without further notice, unless EPA receives adverse comment by March 29, 2000. Should EPA receive such comments, it will publish a timely document withdrawal informing the public that the rule will not take effect.

ADDRESSES: Written comments, referring to Docket Number LA-00-1, should be sent to Alima Patterson, Region 6 Authorization Coordinator, Grants and Authorization Section (6PD-G), Multimedia Planning and Permitting Division, EPA Region 6, 1445 Ross Avenue, Dallas, Texas 75202-2733, (214) 665-8533. Copies of the Louisiana program revision application and the materials which EPA used in evaluating the revision are available for inspection and copying from 8:30 a.m. to 4 p.m. Monday through Friday, at the following addresses: Louisiana Department of Environmental Quality, H.B. Garlock Building, 7290 Bluebonnet, Baton Rouge, Louisiana 70810, (504) 765-0617 and EPA, Region 6, 1445 Ross Avenue, Dallas, Texas 75202-2733, (214) 665-6444.

FOR FURTHER INFORMATION CONTACT: Alima Patterson, Region 6 Authorization Coordinator, Grants and Authorization Section (6PD-G), Multimedia Planning and Permitting Division, EPA Region 6, 1445 Ross Avenue, Dallas, Texas 75202-2733, (214) 665-8533.

SUPPLEMENTARY INFORMATION:

A. Why are Revision to State Programs Necessary?

States that receives final authorization from EPA under RCRA Section 3006(b), 42 U.S.C. 6926(b), must maintain a hazardous waste program that is equivalent to, consistent with, and no less stringent than the Federal Hazardous Waste Program. As the Federal program changes, States must change their programs and ask EPA to authorize the changes. Changes to State programs may be necessary when Federal or State statutory or regulatory authority is modified or when certain other changes occur. Most commonly, States must change their programs because of changes to EPA's regulations in 40 Code of Federal Regulations (CFR) parts 124, 260-266, 268, 270, 273, and 279.

B. What is the Effect of Today's Authorization Decision?

The effect of this decision is that a facility in Louisiana subject to RCRA will now have to comply with the authorized State requirements instead of the equivalent federal requirements in order to comply with RCRA. Louisiana has enforcement responsibilities under its state hazardous waste program for violations of such program, but EPA retains its authority under RCRA sections 3007, 3008, 3013, and 7003, which include, among others, authority to: (1) do inspections, and require monitoring, tests, analyses or reports, (2) enforce RCRA requirements and suspend or revoke permits, and (3) take enforcement actions regardless of whether the State has taken its own actions. This action does not impose additional requirements on the regulated community because the regulations for which Louisiana is being authorized by today's action are already effective, and are not changed by today's action.

C. What is the History of Louisiana's Final Authorization and its Revisions

The State of Louisiana initially received final authorization on February 7, 1985 (50 FR 3348), to implement its base Hazardous Waste Management Program. Louisiana received authorization for revisions to its program on January 29, 1990 (54 FR 48889); October 25, 1991 (56 FR 41958); August 26, 1991 (56 FR 41958) effective August 26, 1991; November 7, 1994 (59 FR 55368) effective January 23, 1995; December 23, 1994 (59 FR 66200) effective March 8, 1995; there were technical corrections made on January 23, 1995; (60 FR 4380), effective January 23, 1995 and another technical correction was made on April 11, 1995 (60 FR 18360). We authorized the additional following revisions: October 17, 1995; (60 FR 53704) January 2, 1996; March 28, (61 FR 13777-13782) effective June 11, 1996; December 29, 1997 (62 FR 67572-67577) effective March 16, 1998; October 23, 1998 (63 FR 56830-56891) effective December 22, 1998; August 25, 1999 (64 FR 46302-46316) effective October 25, 1999; and September 2, 1999 (48099-48103) effective November 1, 1999. On August 30, 1999, Louisiana applied for approval of its complete final program. In this application, Louisiana is seeking additional approval of its program revision in accordance with 40 CFR 271.21(b)(3). The State is also including in this authorization program revisions for RCRA Cluster VIII, waste minimization rules a requirement for generators and owners or operators of treatment, storage, and disposal facilities to certify that they have instituted a waste minimization program.

In 1983, the Louisiana legislature adopted Act 97, which amended and reenacted Louisiana Revised Statutes (LRS) 30:1051 et seq., the Environmental Affairs Act. This Act created Louisiana Department of Environmental Quality (LDEQ), which has lead agency jurisdictional authority for administering the RCRA Subtitle C program in the State. Also, LDEQ is designated to facilitate communication between EPA and the State. The State law governing the generation, transportation, treatment, storage and disposal of hazardous waste can be found in LRS 30:2171-2205. This part may be cited as the “Louisiana Hazardous Waste Control Law.” The laws governing hazardous waste should be viewed as part of a larger framework of environmental laws specified in Title 30, Subtitle II Louisiana Revised Statutes. The State of Louisiana has adopted the Federal regulations in Cluster VIII promulgated from July 1, 1997, through June 30, 1998; the State of Louisiana regulations became effective September 20, 1998, and March 20, 1999.

D. What Revisions are we Approving with Today's Action?

Louisiana applied for final approval of its revision to its hazardous waste program in accordance with 40 CFR 271.21. Louisiana's revisions consist of regulations which specifically govern RCRA Cluster VIII and waste minimization rules. Louisiana requirements are included in a chart with this document. The EPA is now making a final decision, subject to receipt of written comments that oppose this action, that Louisiana's hazardous waste program revision satisfies all of the requirements necessary to qualify for final authorization. Therefore, we grant Louisiana final authorization for the following program revisions:

Federal citation | State analog
1. HWSA Codification Rule; Waste Minimization, [50 FR 28702] July 15, 1985. (Checklist 17D) | Louisiana Revised States (LRS) 30: § 2180 et seq, as amended June 14, 1991, effective June 14, 1991; Louisiana Hazardous Waste Regulations (LHWR) §§ 309.J.2, as amended April 20, 1998, effective April 20, 1998; 901, 1107.B.2, as amended September 20, 1998, effective September 20, 1998; 1111.B.1.f-h, as amended October 20, 1994, effective October 20, 1994; 1529.B.19, 4301.B, 4301.F, as amended March 20, 1999, effective March 20, 1999.
2. Hazardous Waste Treatment, Storage, and Disposal Facilities and Hazardous Waste Generators; Organic Air Emission Standards for Tanks, Surface Impoundments, and Containers, [61 FR 59931] November 25, 1996, [59 FR 62896] December 6, 1994], [60 FR 26828] May 19, 1995, [60 FR 50426] September 29, 1995, [60 FR 56952] November 13, 1995, [61 FR 4903] February 9, 1996, [61 FR 28508] June 5, 1996. (Checklists 154, 154.1, 154.2, 154.3, 154.4, 154.5 and 154.6.) | LRS 30:2180 et seq, as amended June 14, 1991, effective June 14, 1991; LHWR §§ 307.A.2, 307.A.3, 307.A.4, 517.G, as amended September 20, 1998, effective September 20, 1998; 521.E, as amended March 20, 1998, effective March 20, 1998; 523.K, 525.K, 526.A, 526.A.1-7, 110.A.14, as amended September 20, 1998, effective September 20, 1998; September 20, 1996, effective September 20, 1996; 110.A.15, 110.B, 1109.E.1.a, as amended September 20, 1998, effective September 20, 1998; 1109.E.b, as amended March 20, 1995, effective March 20, 1995; 1109.E.7.a, as amended September 20, 1998, effective September 20, 1998; 1509.B.4, as amended March 20, 1999, effective March 20, 1999; 1519.B.7. 1519.B.9, 1519.B.9.a-b, 1529.B.6, as amended September 20, 1998, effective September 20, 1998; 1529.B.9, as amended March 20, 1999, effective March 20, 1999; 1529.E.3, as amended September 20, 1996, effective September 20, 1996; Chapter 17 Appendix Table 1, as amended September 20, 1996, effective September 20, 1996; 1703, 1703. Average Volatile Organic, 1703. Closure Device, 1703. Cover, 1703. Enclosure, 1703. Continuous Seal, 1703. External Floating Roof, 1703. Fixed Roof, 1703. Floating Membrane Cover, 1703. Floating Roof, 1703. Hard-piping, 1703. In Light Material Service, 1703. 1703. In Light Service, 1703. Internal Floating Roof, 1703. Liquid-Mounted Seal, 1703. Malfunction, 1703. Maximum Organic Vapor Pressure,1703. Metallic Shoe Seal, 1703. No Detectable Organic Emissions, 1703. Point of Waste Origination, 1703. Point of Waste Treatment, 1703. Single-Seal System, 1703. Vapor-Mounted Seal, 1703. Safety Device, 1703. Single-seal System, 1703. Volatile Organic Concentration or VO, 1703. Waste Determination, 1703. Waste Stabilization Process, 1705. A, 1705. A.1-3, 1705.B, 1705.D, 1705.Note 1,1709.A.2, 1709.A. 2.a-d, 1709.F.2.f.ii, 1709.K, 1709.K.1-2, 1709.L, 1709.L.1.a-b, 1709.L.1.b.i-ii, 1709.L.c-d, 1709.L.2, 1709.L.2.a-d, 1709.L.3, 1709.L.3.a-d, 1709.L.I, 1709.M, 1709.N, 1709.N.1, 1709.N.1.a-c, 1709.N.2, 1709.N.2.a-b, 1709.N.3, 1709.N.3.a-b, 1709.O, 1709.O.1-2, 1711.B, 1713.C.10, 1713.C.10.a-e, 1713.10.e.i-ii, 1713.C.3, 1713.C.9, 1713.D, 1717.B, 1717.B.1-3, as amended September 20, 1998, effective September 20, 1998; 1717.C, 1717.F, as amended March 20, 1999, effective March 20, 1999; 1717.Note, 1725.A-B,1725.B.1-3, 1725.C, 1725.E, 1735.A, as amended September 20, 1998, effective September 20, 1998; 1735.A.1, 1735.B.1-4, 1739.B.2-3, 1743.G.6, 1743.M, 1747.A, as amended March 20, 1999, effective March 20, 1999; 1747.B, 1747.B.1, as amended September 20, 1998, effective September 20, 1998; 1747.B.2, as amended March 20, 1999, effective March 20, 1999; 1747.B.3-8, 1747.C-D, 1747.D.1-3, 1749, 1751.A-C, 1751.C.1-2, 1751.C.2.a-d, 1751.C.2.d.i-ii, 1751.C.2.e, 1751.C.2.e.i-iii, 1751.C.2.f, 1751.C.2.g, 1751.C.2.g.i-ii, 1751.C.2.h, 1751.C.2.h.i-ii, 1751.C.2.i-ii, as amended September 20, 1998, effective September 20, 1999; 1751.C.3-4, as amended March 20, 1999, effective March 20, 1999; 1751.C.4.a-b, 1751.C.5, 1751.C.5.a-c, 1751.D, 1751.D.1-2, 1751.D.2.a-b, 1751.D.3-5, 1751.D.5.a-c, 1753.A, 1753.A.1, as amended September 20, 1998, effective September 20, 1998; 1753.A.2, as amended March 20, 1999, effective March 20, 1999; 1753.B, 1753.B.1-2, 1753.C., 1753.C.1-2, 1753.D, 1755.A-B, 1755.B.1, 1755.B.1.a, 1755.B.1.a.i-iii, 1755.B.1.b-c, 1755.B.2, 1755.C, 1755.C.1-2, 1755.b.1.b-c, 1755.B.2, 1755.C, 1755.C.1-2, 1755.C.2.a-c, 1755.C.2.C.i-ii, as amended September 20, 1998; 1755C.2.i-ii, 1755.C.2.c.ii(a)-(b), as amended March 20, 1999, effective March 20, 1999; 1755.C.2.d, 1755.C.3, 1755.C.3.a, 1755.C.3.a.i-ii, 1755.C.3.b-c, 1755.C.4, 1755.C.4.a-d, 1755.D, 1755.D.1-5, 1755.E, 1755.E.1, 1755.E.1.a-b, 1755.E.1.b.i-ii, 1755.E.1.c, 1755.E..1.C.i-vi, 1755.E.2, 1755.E.2.a-c, 1755.E.3, 1755.E.3.a-b, 1755.E.3.b.i-ii, 1755.E.3.c-d, 1755.E.3.d.i-ii, 1755.E.3.e-f, 1755.E.4, 1755.F, 1755.F.1, 1755.F.1.a-b, 1755.F.1.b.i-ii, 1755.F.1.c, 1755.F.1.c.i-iv, 1755.F.1.c.ix, 1755.F.1.c.v-viii,1755.F.2, 1755.F.2.a-h, 1755.F.3, 1755.F.3.a, 1755.F.3.a.i-iv, 1755.F.3.a.iv(a)-(d), 1755.F.a.v-vi, 1755.F.3.b, 1755.F.3.b.i-iv, 1755.F.3.c, 1755.F.3.c.i-iii, as amended September 20, 1998, effective September 20, 1998;
| 1755.F.3.c.iv.d, 1755.F.4, 1755.G, as amended March 20, 1999, effective March 20, 1999; 1755.G.1, 1755.G.1.a-d, 1755.G.2, 1755.G.2.a, 1755.G.2.a.i-ii, 1755.G.2.b, 1755.G.3, 1755.G.3.a-e 1755.H, 1755.H.1-3, 1755.I, 1755.I.1-4, 1755.J, 1755.J.1-2, 1755.J.a-b, as amended September 20, 1998, effective September 20, 1998; 1755.J.2.c, as amended March 20, 1999, effective March 20, 1999; 1755.K, 1755.K.1-2, 1755.L, 1755.L.1, 1755.L.1.a-b, 1755.L.2, 1757.A-B, 1757.B.1-2, 1757.C, 1757.C.1, 1757.C.1.a-b, 1757.C.b.i-ii, 1757.C.1.c, 1757.1.d, 1757.C.1.e, 1757.C.1.f, 1757.C.2, 1757.C.2.a, 1757.C.2.a.i-ii, 1757.C.2.b, 1757.C.3, 1757.C.3.a-d, 1757.D, 1757.D.1, 1757.D.1.a-b, as amended September 20, 1998, effective September 20, 1998, 1757.D.1.c, as amended March 20, 1999, effective March 20, 1999; 1757.D.1.d, 1757.D.2, 1757.D.2.a, 1757.D.2.a.i-ii, 1757.D.b, 1757.D.3, 1757.D.3.a-e, 1757.E, 1757.E.1-2, 1757.E.2.a-c, as amended September 20, 1998, effective September 20, 1998; 1757.F, 1757.F.1-2, 1757.G, 1757.G.1-2, 1759.A-B, 1759.B.1, 1759.B.1.a-c, 1759.B.2, 1759.C, 1759.C.1, 1759.C.1.a-c, 1759.C.2, 1759.C.3, 1759.C.3.a, 1759.C.3.a.i-ii, 1759.C.3.b, 1759.C.3.b.i-ii, 1759.C.3.c-e, 1759.C.4, 1759.C.4.a-c, 1759.C.5, 1759.D, 1759.D.1, 1759.D.1.a-c, amended September 1998, effective September 1998; 1759.D.2-3, as amended March 20, 1999, effective March 20, 1999; 1759.D.3.a, 1759.D.a.i-ii, 1759.D.3.b, 1759.D.3.b.i-ii, 1759.D.3.c-e, 1759.D.4,as amended September 20, 1998, effective September 20, 1998; 1759.D.4.b-c, 1759.E, 1759.E.1, 1759.E.1.a-b, 1759.E.2, 1759.E.2.a-b, 1759.E.3-5, 1759.F, 1759.F.1-4, 1759.G, 1759.G.1-2, 1759.H, 1759.H.1-3, 1761.A-B, 1761.B.1-3, 1761.B.3.a-b, 1761.B.4, 1761.C, 1761.C.1, 1761.C.1.a-c, 1761.C.2, 1761.C.2.a-f, 1761.C.3, 1761.C.3.b, 1761.C.4-5, 1761.C.5.a, 176.C.5.a.i-v, 1761.C.5.b-e, 1761.C.6, as amended September 20, 1998, 1761.C.7, as amended March 20, 1999, effective March 20, 1999; 1763.A-B, as amended September 20, 1998, effective September 20, 1998; 1765.A, as amended March 20, effective March 20, 1999; 1765.B, 1765.B.1, 1765.B.1.a-b, 1765.B.1.b.i-ii, 1765.B.2, 1765.B.2.a-c, 1765.B.2.c.i-ii, 1765.B.2.d, 1765.B.2.d.i-ii, 1765.C, 1765.C.1-3, 1765.C.3.a-b, 1765.C.4, 1765.D, 1765.D.1-2, 1765.E, 1765.E.1-5, 1765.E.5.a-b, 1765.E.6, 1765.E.6.a-c, 1765.E.7, 1765.F, 1765.F.1-2, 1765.G, 1765.H, 1765.I, 1765.I.1-2, 1765.I.2.a-b, 1765.I.3, 1765.I.3.a-b, 1765.J, 1765.J.1-2, as amended September 20, 1998, effective September 20, 1998; 1765.A, as amended March 20, 1999, effective March 20, 1999; 1767.B-C, 1767.C.1-3, 1767.D, 1767.D.1-2, Chapter 17, Appendix Table 1, 1921, 2119, 2919, 3203, 4115.A, 4301.C, 4313.4.6, 4313.E.8, 4313.E.8.a-b, as amended September 20, 1998, effective September 20, 1998; 4317.B.3, 4357.B.5, as amended March 20, 1999, effective March 20, 1999; 4357.B.8, as amended March 20, 1999, effective March 20, 1999;4365.D as amended September 20, 1998, effective September 20, 1998; 4365.D, 4430, 4446, 4549.B, 4549.B.1-3, 4549.B. Note, as amended September 20, 1998, effective September 20, 1998; 4549.C, as amended March 20, 1999, effective March 20, 1999; 4456, 4555, as amended July 20, 1991, effective July 20, 1991, 4557, as amended March 20, 1999, effective March 20, 1999; 4559, as amended July 20, 1991 as amended July 20, 1991, effective July 20, 1991; 4561.B, 4561.B.1-2, as amended September 20, 1998, effective September 20, 1998; 4561.B.3, 4561.E, as amended March 20, 1999, effective March 20, 1999; 4561.note, as amended September 20, 1998, effective September 20, 1998; 4571, 4577, as amended July 20, 1991, effective July 20, 1991; 4581, as amended March 20, 1999, effective March 20, 1999; 4589, 4719, as amended March 20, 1999, effective March 20, 1999; 4721, as amended March 20, 1998, effective March 20, 1998; 4723.A, as amended September 20, 1998, effective September 20, 1998; 4723.A,1,-2, as amended March 20, 1999, effective March 20, 1999; 4723.A.2.a-d, as amended March 20, 1999, effective March 20, 1999; 4723.B, as amended September 20, 1998, effective September 20, 1998; 4723.B.1-2, 4723.B.2.a-c, 4723.C, 4723.D, 4725, as amended March 20, 1999, effective March 20, 1999;
| 4727.A, 4727.A.1-3, 4727.A.3.a-b, 4727.A.3.b.i-ii, 4727.A.3.c, 4727.A.3.c.i-v, 4727.A.3.c.v(a), 4727.A.3.c.vi, 4727.A,c,vi.(a)-(b), 4727.A.3.c.vii, 4727.A.3.c.vii.(a)-(b), 4727.A.3.c.viii, 4727.A.3.d, 4727.A.3.d.i-ii, 4727.A.3.d.ii.(a)-(b), 4727.A.3.e, 4727.A.4, 4727.A.4.a-d, 4727.B, 4727.B.1-3, 4727.b.3.a-b, 4727.B.3.b.i-iii, 4727.B.3.c-xi, 4727.B.c.vi.(a)-(b), 4727.B.3.c.vii, 4727.B.3.c.vii(a)-(b), 4727.B.3.c.viii, 4727.B.3.d-e, 4727.B.4, 4727.B.4.a-c, 4727.B.5, 4727.B.5.a-c, 4727.B.5.c.i-ii, 4727.B.5.d, 4727.B.5.d-e, 4727.B.6, 4727.B.6.a-b, 4727.B.7, 4727.B.7.a-d, 4727.B.8, 4727.a-c, 4727.B.3.c.iv, 4727.A.3.c.v, 4727.A.3.v.(a), 4727.B.9, 4727.B.9.a-d, 4727.C.1-3, 4727.C, 4727.C.3.a-b, 4727.C.3.b.i-v, 4727.C.4, 4727.D, 4727.D.1-5, 4727.D.a-b, 4727.D.6-9, 4727.A.3.d.ii.(a), 4727.B.9.d, 4739, as amended September 20, 1998, effective September 20, 1998; and LAC 33:lll.3003, as amended December 20, 1997, effective December 20, 1997.
3. Hazardous Waste Management System; Carbamate Production, Identification and Listing of Hazardous Waste; Land Disposal Restrictions, [62 FR 32974] (June 17, 1997. (Checklist 159) | LRS 30:2180 et seq, as amended June 14, 1991, effective June 14, 1991; LHWR §§ 2221.F.1, 2221.F.4, Chapter 22 Table 2, as amended September 20, 1998, effective September 20, 1998; 3105.E.Table 1, as amended March 20, 1998, effective March 20, 1998; 4901.C. Table 2, as amended February 20, 1998, effective February 20, 1998; 4901.F.Table 4, as amended September 20, 1998, effective September 20, 1998; 4901.G. Table 6, as amended February 20, 1998, effective February 20, 1998.
4. Land Disposal Restrictions Phase III—Emergency Extension of the K088 National Capacity Variance, [62 FR 37694]—July 14, 1997. (Checklist 160) | LRS 30:2180 et seq, as amended June 14, 1991, effective June 14, 1991; LHWR § 2221.F.3, as amended March 20, 1999, effective March 20, 1999.
5. Second Emergency Revision of the Land Disposal Restrictions (LDR) Treatment Standards for Listed Hazardous Wastes From Carbamate Production, [62 FR 45568] August 28, 1997 (Checklist 161) | LRS 30:2180 et seq, as amended June 14, 1991, effective June 14, 1991; LHWR §§ 2223.G, Chapter 22 Table 7, as amended September 20, 1998, effective September 20, 1998.
6. Clarification of Standards for Hazardous Waste LDR Treatment Variances [62 FR 64504] (December 5, 1997. (Checklist 162) | LRS 30:2180 et seq, as amended June 14, 1991, effective June 14, 1991; LHWR §§ 2231.A, 2231.A.1-2, 2231.A.2.a-b, 2231.G, 2231.G.1-2, 2231.G.2.a-b, 2231.G.3 and 2231.M, as amended March 20, 1999, effective March 20, 1999.
7. Organic Air Emissions Standards for Tanks, Surface Impoundments, and Containers; Clarification and Technical Amendment, [62 FR 64636] December 8, 1997. (Checklist 163) | LRS 30:2180 et seq,as amended June 14, 1991, effective June 14, 1991; LHWR §§ 307.A.2, 307.A.3, 307.A.4, 517.G, as amended September 20, 1998, effective September 20, 1998; 521.E, as amended March 20, 1998, effective March 20, 1998; 523.K, 525.K, 526.A, 526.A.1-7, 110.A.14, as amended September 20, 1998, effective September 20, 1998; September 20, 1996, effective September 20, 1996; 110.A.15, 110.B, 1109.E.1.a, as amended September 20, 1998, effective September 20, 1998; 1109.B.b, as amended March 20, 1995, effective March 20, 1995; 1109.E.7.a, as amended September 20, 1998, effective September 20, 1998; 1509.B.4, as amended March 20, 1999, effective March 20, 1999; 1519.B.7. 1519.B.9, 1519.B.9.a-b, 1529.B.6, as amended September 20, 1998, effective September 20, 1998; 1529.B.9, as amended March 20, 1999, effective March 20, 1999; 1529.E.3, as amended September 20, 1996, effective September 20, 1996;
| Chapter 17 Appendix Table 1, as amended September 20, 1996, effective September 20, 1996; 1703, 1703. Average Volatile Organic, 1703. Closure Device, 1703. Cover, 1703. Enclosure, 1703. Continuous Seal, 1703. External Floating Roof, 1703. Fixed Roof, 1703. Floating Membrane Cover, 1703. Floating Roof, 1703. Hard-piping, 1703. In Light Material Service, 1703. 1703. In Light Service, 1703. Internal Floating Roof, 1703. Liquid-Mounted Seal, 1703. Malfunction, 1703. Maximum Organic Vapor Pressure, 1703. Metallic Shoe Seal, 1703. No Detectable Organic Emissions, 1703. Point of Waste Origination, 1703. Point of Waste Treatment, 1703. Single-Seal System, 1703. Vapor-Mounted Seal, 1703. Safety Device, 1703. Single-seal System, 1703. Volatile Organic Concentration or VO, 1703. Waste Determination, 1703. Waste Stabilization Process, 1705.A, 1705.A.1-3, 1705.B, 1705.D, 1705. Note 1,1709.A.2, 1709.A.2.a-d, 1709.F.2.f.ii, 1709.K, 1709.K.1-2, 1709.L, 1709.L.1.a-b, 1709.L.1.b.i-ii, 1709.L.c-d, 1709.L.2, 1709.L.2.a-d, 1709.L.3, 1709.L.3.a-d, 1709.L.I, 1709.m, 1709.n, 1709.N.1, 1709.n.1.a-c, 1709.N.2, 1709.N.2.a-b, 1709.N.3,1709.n.3.a-b, 1709.O, 1709.O.1-2, 1711.B, 1713.C.10, 1713.C.10.a-e, 1713.10.e.i-ii, 1713.C.3, 1713.C.9, 1713.D, 1717.B, 1717.B.1-3, as amended September 20, 1998, effective September 20, 1998; 1717.C, 1717.F, as amended March 20, 1999, effective March 20, 1999; 1717. Note, 1725.A-B,1725.B.1-3, 1725.C, 1725.E, 1735.A, as amended September 20, 1998, effective September 20, 1998; 1735.A.1, 1735.A.B.1-4, 1739.B.2-3, 17.G.6, 1743.M, 1747.A, as amended March 20, 1999, effective March 20, 1999; 1747.B, 1747.B.1, as amended September 20, 1998, effective September 20, 1998; 1747.B.2, as amended March 20, 1999,effective March 20, 1999; 1747.B.3-8,1747.C-D, 1747.D.1-3, 1749, 1751.A-C, 1751.C.1-2, 1751.C.2.a-d, 1751.C.2.d.i-ii, 1751.C.2.e, 1751.C.e.i-iii, 1751.C.5.a-c, 1751.D, 1751.D.1-2, 1751.D.2.a-b, 1751.D.3-5, 1751.D.a-c, 1753.A, 1753.A.1, as amended September 20, 1998, effective September 20, 1998; 1753.A.2, as amended March 20, 1999, effective March 20, 1999; 1751.C.2.f, 1751.C.2.g, 1753.B, 1753, 1751.C.2.g, 1751.C.2.g.i-ii, 1751.C.2.h, 1751.C.2.h.i-ii, 1751.C.2.i-ii, as amended September 20, 1998, effective September 20, 1999; 1751.C.3-4, as amended March 20, 1999, effective March 20, 1999; 1751.C.4.a-b, 1751.C.5.a-c, 1751.D, 1751.D.1-2, 1751.D.2.a-b, 1751.D.3-5, 1751.D.a-c, 1753.A, 1753.A.1, as amended September 20, 1998, effective September 20, 1998;
| 1753.A.2, as amended March 20, 1999, effective March 20, 1999; 1753.B, 1753,1753.B.1-2, 1753.C., 1753.C.1-2, 1753.D, 1755.A-B, 1755.B.1, 1755.B.1.a, 1755.B.1.a.i-iii, 1755.B.1.b-c, 1755.B.2, 1755.C, 1755.C.1-2, 1755.b.1.b-c, 1755.B.2, 1755.C, 1755.C.1-2, 1755.C.2.a-c, 1755.C.2.C.i-ii, as amended September 20, 1998; 1755C.2.i-ii, 1755.C.2.c.ii(a)-(b), as amended March 20, 1999, effective March 20, 1999; , 1755.F.2.a-b-h, 1755.F.3, 1755.F.3.a, 1755.F.3.a.i-iv, 1755.F.3.a.iv(a)-(d), 1755.F.a.v-vi, 1755.F.3.b, 1755.F.3.b.i-iv, 1755.F.3.c, 1755.F.3.c.i-iii, as amended September 20, 1998, effective September 20, 1998; 1755.F.3.c.iv.d, 1755.F.4, 1755.G, as amended March 20, 1999, effective March 20, 1999;
| 1755.C.2.d, 1755.C.3, 1755.C.3.a, 1755.C.3.a.i-ii, 1755.C.3.b-c, 1755.C.4, 1755.c.4.a-d, 1755.D, 17755.D.1-5,1755.E, 1755.E.1, 1755.E.1.a-b, 1755.E.1.b.i-ii, 1755.E.1.c, 1755.E..1.C.i-vi, 1755.E.2, 1755.E.2.a-c, 1755.E.3, 1755.E.3.a-b, 1755.E.3.b.i-ii, 1755.E.3.c-d, 1755.E.3.d.i-ii, 1755.E.3.e-f, 1755.E.4, 1755.F, 1755.F.1, 1755.F.1.a-b, 1755.F.1.b.i-ii, 1755.F.1.c, 1755.F.1.c.i-iv, 1755.F.1.c.ix, 1755.F.1.c.v-viii,1755.F.2, 1755.G.1, 1755.G.1.a-d, 1755.G.2, 1755.G.2.a, 1755.G.2.a.i-ii, 1755.G.2.b, 1755.G.3, 1755.G.3.a-e 1755.H, 1755.H.1-3, 1755.I,1755.J. 1755.J.a-b, as amended September 20, 1998, effective September 20, 1998; 1755.J.2.c,1755.I.1-4, 1755.J, 1755.J.1-2, as amended March 20, 1999, effective March 20, 1999; 1755.J. 1755.J.a-b, as amended September 20, 1998, effective September 20, 1998; 1755.J.2.c, as amended March 20, 1999, effective March 20, 1999; 1755.K, 1755.K.1-2, 1755.L, 1755.L.1, 1755.L.1.a-b, 1755.L.2, 1757.A-B, 1757.B.1-2, 1757.C, 1757.C.1, 1757.C.1.b, 1757.C.b.i-ii, 1757.C.1.c, 1757.1.d, 1757.C.1.e, 1757.C.1.f, 1757.C.2, 1757.C.2.a, 1757.C.2.a.i-ii, 1757.C.2.b, 1757.C.3, 1757.C.3.a-d, 1757.D, 1757.D.1, 1757.D.1.a-b, as amended September 20, 1998, effective September 20, 1998, 1757.D.1.c, as amended March 20, 1999, effective March 20, 1999;
| 1757.D.1.d, 1757.D.2, 1757.D.2.a, 1757.D.2.a.i-ii, 1757.D.b, 1757.D.3, 1757.D.3.a-e, 1757.E, 1757.E.1-2, 1757.E.2.a-c, as amended September 20, 1998, effective September 20, 1998; 1757.F, 1757.F.1-2, 1757.G, 1759.B.1.a-c, 1759.B.2, 1759.C, 1759.C.1, 1759.C.1.a-c, 1759.C.2, 1759.C.3, 1759.C.3.a, 1759.C.3.a.i-ii, 1759.C.3.b 1757.G.1-2, 1759.A-B, 1759.B.1, 1759.C.3.b.i-ii, 1759.C.3.c-e, 1759.C.4, 1759.C.4.a-c, 1759.C.5, 1759.D, 1759.D.1, 1759.D.1.a-c, amended September 1998, effective September 1998; 1759.D.2-3, as amended March 20, 1999, effective March 20, 1999; 1759.D.3.a, 1759.D.a.i-ii, 1759.D.1759.D.3.b, 1759D.3.b.i-ii, 1759.D.3.c-e, 1759.D.4,as amended September 20, 1998, effective September 20, 1998; 1759.D.4.b-c, 1759.E, 1759.E.1, 1759.E.1.a-b, 1759.E.2, 1759.E.2.a-b, 1759.E.3-5, 1759.F, 1759.F.1-4, 1759.G, 1759.G.1-2, 1759.H, 1759.H.1-3, 1761.A-B, 1761.B.1-3, 1761.B.3.a-b, 1761.B.4, 1761.B.4, 1761.C, 1761.C.1, 1761.C.1.a-c, 1765 1761.C.2, 1761.C.2.a-f, 1761.C.3, 1761.C.3.b, 1761.C.4-5, 1761.C.5.a, 176.C.5.a.i-v, 1761.C.5.b-e, 1761.C.6, as amended September 20, 1998, 1761.C.7, as amended March 20, 1999, effective March 20, 1999;
| 1763.A-B, as amended September 20, 1998, effective September 20, 1998; 1765.A, as amended March 20, effective March 20, 1999; 1765.B, 1765.B.1, 1765.B.1.a-b, 1765.B.1.b.i-ii, 1765.B.2, 1765.B.2.a-c, 1765.B.2.c.i-ii, 1765.B.2.d, 1765.B.2.d.i-ii, 1765.C, 1765.C.1-3, 1765.C.3.a-b, 1765.C.4, 1765.D, 1765.D.1-2, 1765.E,1765.E.1-5, 1765.E.5.a-b, 1765.E.6, 1765.E.6.a-c,1765.E.7, .F, 1765.F.1-2, 1765.G, 1765.H, 1765.I,1765.I.1-2, 1765.I.2.a-b, 1765.I.3, 1765.I.3.a-b, 1765.J, 1765.J, as amended September 20, 1998, effective September 20, 1998; 1765.J.2, 1765.A, as amended March 20, 1999, effective March 20, 1999, 4456, 4555, as amended September 20, 1998, effective September 20, 1998; 4557,as amended March 20, 1999, effective March 20, 1999; 4559, as amended July 20, 1991, effective July 20, 1991; 4561.B, 4561.B.1-2, as amended September 20, 1998, effective September 20, 1998;
| 4561.B.3, 4561.E, 4561. note, as amended March 20, 1999, effective March 20, 1999; 4571, as amended September 20, 1998, effective September 20, 1998; 4577, 4581, as amended July 20, 1991, effective July 20, 1991; 4589, 4719, 4721, 4723.A, as amended March 20, 1991, effective March 20, 1991; 4723.A,1, as amended September 20, 1998, effective September 20, 1998; 4723.A.2, 4723.A.2.a-d, as amended March 20, 1999, effective March 20, 1999; 4723.B, as amended September 20, 1998, effective September 20, 1998; 4723.B.1-2, 4723.b.2.a-c, 4723.C, 4723.D, 4725, 4727.A, as amended March 20, 1999, effective March 20, 1999; 4727.A.1-3, 4727.A.3.a-b, 4727.A.3.b.i-ii, 4727.A.3.c, 4727.A.3.c.i-v, 4727.A.3.c.v(a), 4727.A.3.c.vi, 4727.A.c.vi.(a)-(b), 4727.A.3.c.vii, 4727.A.3.c.vii.(a)-(b), 4727.A.3.c.viii, 4727.A.3.d, 4727.A.3.d.i-ii, 4727.A.3.d.ii.(a)-(b), 4727.A.3.e, 4727.A.4, 4727.A.4.a-d, 4727.B, 4727.B.1-3, 4727.b.3.a-b, 4727.B.3.b.i-iii, 4727.B.3.c, 4727.B.3.c-vi, 4727.B.c.vi.(a)-(b), 4727.B.3.c.vii, 4727.B.3.c.vii(a)-(b), 4727.B.3.c.viii, 4727.B.3.d-e, 4727.B.4, 4727.B.4.a-c, 4727.B.5, 4727.B.5.a-c, 4727.B.5.c.i-ii, 4727.B.5.d, 4727.B.5.d-e, 4727.B.6, 4727.B.6.a-b, 4727.B.7, 4727.B.7.a-d, 4727.B.8, 4727.a-c, 4723.C, 4723.D, 4725, 4727.A, as amended March 20, 1999, effective March 20, 1999;
| 4727.A.1-3, 4727.A.3.a-b, 4727.A.3.b.i-ii, 4727.A.3.c, 4727.A.3.c.i-v,4 727.A.3.c.v(a), 4727.A.3.c.vi(b), 4727.A.3.c.vii, 4727.A.3.c.vii 4727,A,c,vi.(a)-(a)-(b), 4727.A.3.c.viii, 4727.A.3.d, 4727.A.3.d.i-ii.(a)-(b) -(b), 4727.A.3.e, 4727.A.4, 4727.A.4.a-d, 4727.B, 4727.B.1-3, 4727.b.3.a-b, 4727.B.3.b.i-iii, 4727.B.3.c, 4727.B.3.c-vi, 4727.B.c.vi.(a)-(b), 4727.B.3.c.vii, 4727.B.3.c.vii(a)-(b), 4727.B.3.c.viii, 4727.B.3.d-e, 4727.B.4, 4727.B.4.a-c, 4727.B.5, 4727.B.5.a-c, 4727.B.5.c.i-ii, 4727.B.5.d, 4727.B.5.d-e, 4727.B.6, 4727.B.6.a-b, 4727.B.7, 4727.B.7.a-d, 4727.B.8, 4727.a-c, 4727.B.9, 4727.B.9.a-d, 4727.C, 4727.C.1-3, 4727.C, 4727.C.3.a-b, 4727.C.3.b.i-v, 4727.C.4, 4727.D, 4727.D.1-5, 4727.D.a-b, 4727.D.6-9, 4727.A.3.d.ii.(a), 4727.B.9.d, 4739, as amended September 20, 1998, effective September 20, 1998; and LAC 33:lll.3003, as amended December 20, 1997, effective December 20, 1997. LAC 33:V.1109.E.7.a is more stringent than 40 CFR 262.34(d)(2) because LDEQ does not recognize conditionally exempt small quantity generators. If a person generates greater than 100 kg but less than 1000kg in the State, the generator is equivalent to a large quantity generator and would follow the guidelines for large quantity generators. Additionally, the federal citation lists the accumulation time as 180 days or less and the State citation lists the accumulation time as 90 days or less.
8. Kraft Mill Steam Stripper Condensate Exclusion, [63 FR 24596] May 4, 1998. (Checklist 164) | LRS 30:2180 et seq, as amended June 14, 1991, effective June 14, 1991; LHWR § 105.D.1.o, as amended March 20, 1999; effective March 20, 1999.
9. Recycled Used Oil Management Standards; Technical Correction and Clarification, [63 FR 24963] May 6, 1998. (Checklist 166) | LRS 30:2180 et seq, as amended June 14, 1991, effective June 14, 1991; LHWR §§ 3913, as amended October 20, 1994, effective October 20, 1994, 3915, as amended August 20, 1998, effective August 20, 1998, 4003.l, 4013.D, 4013.D1-4, 4035.H, 4035.H.1-4, 4049.G, 4049.G.1-4, 4069.G, 4069.G.1-4, 4085.B, 4085.B.1-4, 4105.B-9-11, as amended March 20, 1999, effective March 20, 1999. LAC 33:V.3913 and LAC.3915 are more stringent than 40 CFR 261.5(j). The State does not recognize the class of generators generating 0-100kg/mth as conditionally exempt small quantity generators. Generators in Louisiana who generates 0-100kg/mth must follow more stringent guidelines such as filing annual reports, for small quantity generators.
10. Land Disposal Restrictions Phase IV-Treatment Standards for Metal Waste and Mineral Processing Wastes, [63 FR 28556] May 26, 1998]. (Checklist 167A) | LRS 30:2180 et seq, as amended June 14, 1991, effective June 14, 1991; LHWR §§ 2203. Underlying Hazardous Constituent, 2207.D, 2215.A-D, 2215.D.1-4, 2215.E, 2223.E, 2223.H, Chapter 22.Table 2 and 7, as amended March 20, 1999, effective March 20, 1999.
11. Land Disposal Restrictions Phase IV—Hazardous Soils Treatment Standards and Exclusions, [ 63 FR 28556] May 26, 1998. (Checklist 167B) | LRS 30:2180 et seq, as amended June 14, 1991, effective June 14, 1991; LHWR §§ 2203.Soil, 2231.G.3, 2231.G.3.a, 2231.G.a.i-ii, 2231.G.3.b, 2231.G.4-5, 2236.A-C, 2236.C.1, 2236.C.1.a-c, 2236.C.2-3, 2236.C.a-b, 2236.D-E, 2236.E.1-2, 2236.E.2.a-b, 2245.A-B, 2245.B.1, 2245.C, 2245.C.1.b, 2245.D, 2245.D.Table, 2245.E-F, 2246.F, 2246.F.1-2, 2247.A.1-2, 2247.C.1.a, as amended March 20, 1999; effective March 20. 1999.
12. Land Disposal Restrictions Phase IV—Corrections, [63 FR 28556] May 26, 1998. (Checklist 167C) | LRS 30:2180 et seq, as amended June 14, 1991, effective June 14, 1991; LHWR §§ 2223.E, 2227.A, 2227.A.1-3, 2230.A, 2230.D.3-4, 2237.A.2c, 2237.A.2.b.i-ii, 2245.G, 2245.D.Generators. Paperwork Requirements Table, 2247.B, 2247.C.4, 2247.C.5, 2247.D-E, Chapter 22 Table 2 and 7, as amended March 20, 1999; effective March 20, 1999. There is no State equivalent to 40 CFR 268 Appendix VII. The tables located in Appendices VII and VIII reflect dates for regulations promulgated for the federal rules. The promulgation dates for the State equivalent are different and contained within the text of LAC 33:V.Chapter 22 for the rules and are also in the historical note of the regulations for the State.
13. Mineral Processing Secondary Materials Exclusion, [63 FR 28556] May 26, 1998. (Checklist 167D) | LRS 30:2180 et seq, as amended June 14, 1991, effective June 14, 1991; LHWR §§ 105.D.1.p, 105.D.p.i-iv,105.D.1.p.iv.(a)-(d), 105.D.p.vi, 109.Solid Waste.3.c, 109 Solid Waste.5.a.iii, 109.Solid Waste.Table.1, as amended March 20, 1999; effective March 20, 1999.
14. Bevill Exclusion Revisions and Clarification, [63 FR 28556] May 1998. (Checklist 167E) | LRS 30:2180 et seq, as amended June 14, 1991, effective June 14, 1991; LHWR §§ 105D.2.h, 105.D.h.i-ii, 105.D.2.h.ii.(a)-(t), 105.D.2.h.iii, 105.D.2.h.iii.(a)-(b), 109.Hazardous Waste.2.a, and 109.Hazardous Waste.2.c, as amended March 20, 1999; effective March 20, 1999.
15. Exclusion of Recycled Wood Preserving Wastewaters, [63 FR 28556] May 26, 1999. (Checklist 167F) | LRS 30:2180 et seq, as amended June 14, 1991, effective June 14, 1991; LHWR §§ 105.D.1.i.iii, 105.D.1.i.iii(a)-(e), as amended March 20, 1999; effective March 20, 1999.
16. Hazardous Waste Combustors Revised Standards, [63 FR 33782] June 19, 1998. (Checklist 168) | LRS 30:2180 et seq, as amended June 14, 1991, effective June 14, 1991; LHWR §§ 105.D.1.p.vi, 4909, 4909.A-A.2, 4909-B.B.5, chapter 49 Table 7,4909C, 4909.C.1, 4909.c.1.a, 4909C.1.a.i-iii, 4909.C.a.iii.(a)-(d), 4909.C.1.b, 4909.C.1.b.i-v, 4909.C.2, 4909.C.2.a-b, 4909.C.2.b.i-ii, 4909.C.2.c, 4909.C.3, 4909.C.3.a-c, 4909.C.4, 4909.C.4.a, 4909.C.4.a.i-iii, 4909.C.4.b, 4909.C.5, 4909.C.5.a, 4909.C.5.a.i-iii, 4909.C.5.b, 4909.C.6-7, 4909.c.7.a.i-v, 4909.C.7.b, 4909.C.7.b.i-viii, 4909.C.7.c, 4909.C.8, 4909.C.10.a.i-iii, 4909.C.10.b-h, 4909.C.10.h.a, 4909.C.10.h.a.i-viii, 4909.C.8.a, 4909.C.8.a.i.iv, 4909.C.8.b-c, 4909.C.8.c.i-ii, 4909.C.8.d-f, 4909C.8.g-h, 4909.C.8.h.i, 4909.C.h.ii, 4909.C.8.i, 4909.C.9-10, 4909.C.10.a, 4909.C.10.i.a, 4909.a.i-v, 4909.c.11, 4909.C.12.a, 4909.C.12.a.i-iii, 4909.C.13, 321.C.10, 321.C.10.a-b, 322.I.9, 4303.B.8, as amended March 20, 1999; effective March 20, 1999.

E. What Decisions has EPA Made?

We conclude that Louisiana's application to revise its authorized program meets all of the statutory and regulatory requirements established by RCRA. Therefore, we grant Louisiana final authorization to operate its hazardous waste program as revised, assuming we receive no adverse comments as discussed above. Upon effective final approval Louisiana will be responsible for permitting treatment, storage, and disposal facilities within its borders (except in Indian Country) and for carrying out the aspects of the RCRA program described in its revised program application, subject to the limitations of Hazardous and Solid Waste Amendments of 1984 (HSWA). New federal requirements and prohibitions imposed by Federal regulations that EPA promulgates under the authority of HSWA take effect in authorized States before they are authorized for the requirements. Thus, EPA will implement those requirements and prohibitions in Louisiana, including issuing permits, until the State is granted authorization to do so.

F. How do the Revised State Rules Differ from the Federal Rules?

The EPA considers the following State requirements to be more stringent than the Federal: LAC 33:V.3913 and LAC 33:V.3915 are more stringent than 40 CFR part 261.5(j). The State does not recognize the class of generators generating 0-100kg/per month as “conditionally exempt small quantity generators.” Generators in Louisiana who generates 0-100kg/mth must follow more stringent guidelines for small quantity generators. The State cited different promulgation dates for 40 CFR 268 Appendices VII and VIII. The tables in Appendices VII and VIII reflect dates for regulations promulgated for the federal rules. The promulgation dates for the state equivalent are different and contained within the text of LAC 33:V.Chapter 22 for the rules and are also in the historical note of the regulations for the State. In this authorization for the State of Louisiana's program revisions for RCRA cluster VIII and waste minimization, there are no provisions that are broader in scope. Broader in scope requirements are not part of the authorized program and EPA can not enforce them.

G. Who Handles Permits After this Authorization Takes Effect?

The EPA will administer any RCRA permits or portions of permits it has issued to facilities in the State until the State becomes authorized. At the time the State program is authorized for new rules, EPA will transfer all permits or portions of permits issued by EPA to the State. The EPA will not issue any more permits or portions of permits for the provisions listed in this document after the effective date of this authorization. The EPA will continue to implement and issue permits for HSWA requirements for which the State is not yet authorized.

H. Why wasn't there a Proposed Rule Before Today's Notice?

The EPA is authorizing the State's changes through this immediate final action and is publishing this rule without a prior proposal to authorize the changes because EPA believes it is not controversial and we expect no comments that oppose this action. The EPA is providing an opportunity for public comment now. In addition, in the proposed rules section of today's Federal Register we are publishing a separate document that proposes to authorize the State changes. If EPA receives comments opposing this authorization, that document will serve as a proposal to authorize the changes.

I. Where Do I Send My Comments and When Are They Due?

You should send written comments to Alima Patterson, Regional Authorization Coordinator, Grants and Authorization Section (6PD-G), Multimedia Planning and Permitting Division, EPA Region 6, 1445 Ross Avenue, Dallas, Texas 75202-2733, (214) 665-8533. Please refer to Docket Number LA-00-1. We must receive your comments by March 29, 2000. You may not have an opportunity to comment again. If you want to comment on this action, you must do so at this time.

J. What Happens if EPA Receives Comments Opposing This Action?

If EPA receives comments opposing this authorization, we will publish a second Federal Register document before the immediate final rule takes effect. The second document may withdraw the immediate final rule or identify the issues raised, respond to the comments, and affirm that the immediate final rule will take effect as scheduled.

K. When Will This Approval Take Effect?

Unless EPA receives comments opposing this action, this final authorization approval will become effective without further notice on April 28, 2000.

L. Where Can I Review the State's Application?

You can view and copy the State of Louisiana's application from 8:30 a.m. to 4 p.m. Monday through Friday at the following addresses: Louisiana Department of Environmental Quality, H.B. Garlock Building, 7290 Bluebonnet, Baton Rouge, Louisiana 70810, (504) 765-0397 and EPA, Region 6, 1445 Ross Avenue, Dallas, Texas 75202-2733, (214) 665-6444. For further information contact Alima Patterson, Region 6 Authorization Coordinator, Grants and Authorization Section (6PD-G), Multimedia Planning and Permitting Division, EPA Region 6, 1445 Ross Avenue, Dallas, Texas 75202-2733, (214) 665-8533.

M. How Does Today's Action Affect Indian Country in Louisiana?

Louisiana is not authorized to carry out its Hazardous Waste Program in Indian country within the State. This authority remains with EPA. Therefore, this action has no effect on Indian country.

N. What is Codification?

Codification is the process of placing the State's statutes and regulations that comprise the State's authorized hazardous waste program into the CFR. The EPA does this by referencing the authorized State rules in 40 Code of Federal Regulations part 272. The EPA reserves the amendment of 40 CFR part 272, subpart T for this codification of Louisiana's program changes until a later date.

Regulatory Requirements

Compliance With Executive Order (E.O.) 12866

The Office of Management and Budget (OMB) has exempted this rule from the requirements of section 3 of E.O. 12866.

Compliance Executive Order 13045

Executive Order 13045, “Protection of Children from Environmental Health Risks and Safety Risks” applies to any rule that: (1) the OMB determines is “economically significant” as defined under E.O. 12866, and (2) concerns an environmental health or safety risk that the EPA has reason to believe may have a disproportionate effect on children. If the regulatory action meets both criteria, the Agency must evaluate the environmental health or safety effects of the planned rule on children and explain why the planned regulation is preferable to other potentially effective and reasonably feasible alternatives considered by the Agency.

This rule is not subject to E.O. 13045 because it is not an economically significant rule as defined by E.O. 12866, and because it does not involve decisions based on environmental health or safety risks.

National Technology Transfer and Advancement Act

Section 12(d) of the National Technology Transfer and Advancement Act of 1995 (NTTAA), Public Law No. 104-113, § 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards. This action does not involve technical standards. Therefore, EPA did not consider the use of any voluntary consensus standards.

Unfunded Mandates Reform Act

Title II of the Unfunded Mandates Reform Act of 1995 (UMRA) Public Law (P.L.) 104-4, establishes requirements for Federal agencies to assess the effects of their regulatory actions on State, local, and tribal governments and the private sector.

Under section 202 of the UMRA, the EPA must prepare a written statement, including a cost-benefit analysis, for proposed and final rules with Federal mandates that may result in expenditures to State, local and tribal governments, in the aggregate, or to the private sector, of $100 million or more in any one year. Before promulgating EPA rule for which a written statement is needed, section 205 of the UMRA generally requires EPA to identify and consider a reasonable number of regulatory alternatives and adopt the least costly, most cost-effective or least burdensome alternative that achieves the objective of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that sections 202 and 205 requirements do not apply to today's action because this rule does not contain a Federal mandate that may result in annual expenditures of $100 million or more for State, local and/or tribal governments in the aggregate, or the private sector. Costs to State, local and/or tribal governments already exist under the State of Louisiana's program, and today's action does not impose any additional obligations on regulated entities. In fact EPA's approval of State programs generally may reduce, not increase, compliance costs for the private sector. Further, as it applies to the State, this action does not impose a Federal intergovernmental mandate because UMRA does not include duties arising from participation in a voluntary federal program.

The requirements of section 203 of UMRA also do not apply to today's action because this rule contains no regulatory requirements that might significantly or uniquely affect small governments. Although small governments may be hazardous waste generators, transporters, or own and/or operate Treatment, Storage, Disposal, Facilities, they are already subject to the regulatory requirements under the existing State laws that are being authorized by EPA, and thus, are not subject to any additional significant or unique requirements by virtue of this program approval.

Certification Under the Regulatory Flexibility Act (RFA), as Amended by the Small Business Regulatory Enforcement Fairness Act of 1996 (SBREFA), 5 U.S.C. 601 et. seq.

The RFA generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's action on small entities, small entity is defined as: (1) a small business as specified in the Small Business Administration regulations; (2) a small governmental jurisdiction that is a government of a city, county, town, school district or special district with a population of less than 50,000; and (3) a small organization that is any not-for-profit enterprise which is independently owned and operated and is not dominant in its field.

After considering the economic impacts of this action on small entities, I certify that this action will not have a significant economic impact on a substantial number of small entities. This action does not impose any new requirements on small entities because small entities that are hazardous waste generators, transporters, or that own and/or operate Treatment, Storage, Disposal, Facilities are already subject to the regulatory requirements under the State laws which EPA is now authorizing. This action merely authorizes for the purpose of RCRA 3006 those existing State requirements.

Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA submitted a report containing this rule and other required information to the U.S. Senate, the U.S. House of Representatives and the Comptroller General of the United States prior to publication of the rule in today's Federal Register. This rule is not a “major rule” defined by 5 U.S.C. 804(2).

Paperwork Reduction Act

Under the Paperwork Reduction Act, 44 U.S.C. 3501 et seq., Federal agencies must consider the paperwork burden imposed by any information request contained in a proposed rule or a final rule. This rule will not impose any information requirements upon the regulated community.

Executive Order 12875—Enhancing Intergovernmental Partnerships

Under E.O. 12875, EPA may not issue a regulation that is not required by statute and that creates a mandate upon a State, local or tribal government, unless the Federal government provides the funds necessary to pay the direct compliance costs incurred by those governments. If EPA complies with consulting, E. O. 12875 requires EPA to provide to the OMB description of the extent of EPA's prior consultation with representatives of affected State, local and tribal governments, the nature of their concerns, copies of any written communication from the governments and a statement supporting the need to issue the regulations. In addition, E. O. 12875 requires EPA to develop an effective process permitting elected officials and other representatives of State, local and tribal governments “to provide meaningful and timely input in the development of regulatory proposals containing significant unfunded mandates.”

This rule does not create a mandate on State, local or tribal governments. The rule does not impose any enforceable duties on these entities. The State administers its hazardous waste program voluntarily, and any duties on other State, local or tribal governmental entities arise from that program, not from this action. Accordingly, the requirement of E. O. 12875 do not apply to this rule.

Executive Order 13084—Consultation and Coordination With Indian Tribal Governments

Under E.O. 13084, EPA may not issue a regulation that is not required by statute, that significantly or uniquely affects the communities of Indian tribal governments, and that imposes substantial direct compliance costs on those communities, unless the Federal government provides the funds necessary to pay the direct compliance cost incurred by the tribal governments. If, EPA complies with consulting, E. O. 13084 requires EPA to provide to OMB, in a separately identified section of the preamble to the rule, a description of the extent of EPA's prior consultation with representatives of affected tribal governments, a summary of the nature of their concerns, and a statement supporting the need to issue the regulation. In addition, E.O. 13084 requires EPA to develop an effective process permitting elected officials and other representatives of Indian tribal governments “to provide meaningful and timely input in the development of regulatory policies on matters that significantly or uniquely affect their communities.”

This rule is not subject to E.O. 13084 because it does not significantly or uniquely affect the communities of Indian governments. The State of Louisiana is not authorized to implement the RCRA hazardous waste program in Indian country. This action has no effect on the hazardous waste program that EPA implements in the Indian country within the State.

Executive Order 13132—Federalism

Executive Order 13132, entitled “Federalism” (64 FR 43255, August 10, 1999), requires EPA to develop an accountable process to ensure “meaningful and timely input by State and local officials in the development of regulatory policies that have federalism implications”. “Policies that have federalism implications” is defined in the E. O. to include regulations that have “substantial direct effects on the States, on the relationship between the national government and the States, or on the distribution of power and responsibilities among the various levels of government.”

Under section 6 of E.O. 13132, EPA may not issue a regulation that has federalism implications, that impose substantial direct compliance costs, and that is not required by statute, unless the Federal government provides the funds necessary to pay the direct compliance costs incurred by State and local governments, or EPA consults with State and local officials early in the process of developing the proposed regulation. The EPA also may not issue a regulation that has federalism implications and that preempts State law unless the Agency consults with State and local officials early in the process of developing the proposed regulation.

This action does not have federalism implication. It will not have a substantial direct effect on States, on the relationship between the national government and the States, or on the distribution of power and responsibilities among the various levels of government, as specified in E.O. 13132, because it affects only one State. This action simply approves Louisiana's proposal to be authorized for updated requirements of the hazardous waste program that the State has voluntarily chosen to operate. Further, as result of this action, those newly authorized provisions of the State's program now apply in the State of Louisiana in lieu of the equivalent Federal program provisions implemented by EPA under HSWA. Affected parties are subject only to those authorized State provisions, as opposed to being subject to both Federal and State regulatory requirements. Thus, the requirements of section 6 of the E.O. do not apply.

List of Subjects in 40 CFR Part 271

Environmental protection, Administrative practice and procedure, Confidential business information, Hazardous materials transportation, Hazardous waste, Indian lands, Intergovernmental relations, Penalties, Reporting and recordkeeping requirements, Water pollution control, Water supply.

Authority: This notice is issued under the authority of sections 2002(a), 3006, and 7004(b) of the Solid Waste Disposal Act as amended, 42 U.S.C. 6912(a), 6926, 6974(b).

Dated: February 9, 2000.
Jerry Clifford,
Acting, Regional Administrator, Region 6.

[FR Doc. 00-4648 Filed 2-25-00; 8:45 am]

BILLING CODE 6560-50-P